DEPARTMENT OF THE INTERIOR

National Park Service

[NPS-AKR-WRST-0112-9413; 98651C01SZP]

Record of Decision for the Nabesna Off-Road Vehicle Management Plan and Final Environmental Impact Statement, Wrangell-St. Elias National Park and Preserve

AGENCY: National Park Service, Interior.

ACTION: Notice of availability of a record of decision for the Nabesna Off-Road Vehicle Management Plan and Final Environmental Impact Statement (FEIS), Wrangell-St. Elias National Park and Preserve.

SUMMARY: Pursuant to the National Environmental Policy Act (NEPA) of 1969, 42 U.S.C. 4332(2)(C), the National Park Service (NPS) announces the availability of a Record of Decision (ROD) that documents decisions regarding off-road vehicle management in the Nabesna District of Wrangell-St. Elias National Park and Preserve. The ROD describes the management actions, trail improvements, regulations, and mitigation (including monitoring) that will implement Alternative 6, identified in the FEIS as the preferred alternative. The ROD also describes the rationale used in making the decision and identifies the environmentally preferable alternative. The ROD includes a recommendation for the reclassification of eligible wilderness, which was approved by the NPS Director on January 18, 2012. The reclassification resulted in a net gain of 16,929 acres of eligible wilderness in the analysis area.

ADDRESSES: Copies of the ROD will be available for public review at http://parkplanning.nps.gov/wrst. Hard copies are available at park headquarters (Wrangell-St. Elias National Park and Preserve, Mile 106.8 Richardson Highway, Copper Center, Alaska) or may be requested from Bruce Rogers, Project Manager, Wrangell-St. Elias National Park and Preserve, P.O. Box 439, Copper Center, Alaska 99573.

SUPPLEMENTARY INFORMATION: The ROD describes management actions necessary for managing off-road vehicles (ORVs) for recreational and subsistence use on trails in the Nabesna District of Wrangell-St. Elias National Park and Preserve. The trails were in existence at the time the 13.2-million-acre park and preserve was established in 1980. Beginning in 1983, the park issued permits for recreational ORV use of these established trails, initially in accordance with 36 CFR 13.14(c), which was replaced by 43 CFR 36.11(g)(2) in 1986. The trails also provide for subsistence ORV use and access to inholdings. On June 29, 2006, the National Parks Conservation Association, Alaska Center for the Environment, and The Wilderness Society filed a lawsuit against NPS in the United States District Court for the District of Alaska regarding recreational ORV use on the nine trails that are the subject of this EIS. They challenged the NPS issuance of recreational ORV permits, asserting that NPS failed to make the required finding that recreational ORV use is compatible with the purposes and values of the Park and Preserve. They also claimed that the NPS failed to prepare an environmental analysis of recreational ORV use as required by NEPA.

In the May 15, 2007, settlement agreement, NPS agreed to endeavor to complete an EIS and ROD by December 31, 2010 (this was extended to December 31, 2011).

A Draft Environmental Impact Statement (DEIS) was published in August 2010 and made available for a 90-day public comment period. During the 90-day public comment period, five public meetings were held in Fairbanks, Anchorage, Tok, Slana, and Copper Center, Alaska. The NPS received 153 comment letters from various agencies, organizations, and individuals. In response to public comment, the FEIS analyzed a sixth alternative that was identified as the NPS preferred alternative and that combined elements of Alternatives 4 and 5 from the DEIS. Additionally, the FEIS responded to substantive comments in Chapter 5 and numerous changes were made in the FEIS as a result of public comment. The FEIS considered a reasonable range of alternatives based on project purpose and need and considering park resources and values, and public input.

Alternative 6 was identified as the NPS preferred alternative. All trails would be improved to at least a maintainable condition. After trail improvement, recreational ORV use would be permitted on trails in the national preserve (Suslota, Caribou Creek, Trail Creek, Lost Creek, Soda Lake, and Reeve Field) but not on trails in the national park (Boomerang, Tanada Lake, and Copper Lake). Subsistence ORV use would be subject to monitoring and adaptive management steps and would be confined to designated trail corridors in park wilderness.

FOR FURTHER INFORMATION CONTACT: Bruce Rogers, Project Manager, Wrangell-St. Elias National Park and Preserve, P.O. Box 439, Copper Center, Alaska 99573. Telephone: 907-822-7276.

Tim A. Hudson,
Acting Regional Director, Alaska.

[FR Doc. 2012-8364 Filed 4-5-12; 8:45 am]

BILLING CODE 4312-HC-P